ENVIRONMENTAL PROTECTION AGENCY

[FRL-7624-5]

Gulf of Mexico Program Policy Review Board Meeting and Management Committee

AGENCY: Environmental Protection Agency ( EPA).

ACTION: Notice of meeting.

SUMMARY: Under the Federal Advisory Committee Act (Pub. L. 92-463), EPA gives notice of a joint meeting of the Gulf of Mexico Program (GMP) Policy Review Board (PRB) and Management Committee (MC).

DATES: The meeting will be held on Thursday, March 18, 2004, from 8:30 a.m. to 3 p.m.

ADDRESSES: The meeting will be held at the Homewood Suites, 901 Poydras Street, New Orleans, LA 70130 (504-581-5599).

FOR FURTHER INFORMATION CONTACT: Gloria D. Car, Designated Federal Officer, Gulf of Mexico Program Office, Mail Code EPA/GMPO, Stennis Space Center, MS 39529-6000 at (228) 688-2421.

SUPPLEMENTARY INFORMATION: Proposed agenda is attached.

The meeting is open to the public.

Dated: February 9, 2004.
Gloria D. Car,
Designated Federal Officer.

Gulf of Mexico Program—Joint Policy Review Board/Management Committee Meeting

Homewood Suites, 901 Poydras Street, New Orleans, LA.

Agenda

Thursday, March 18, 2004

8:30 Welcome and Introductions, Jimmy Palmer, EPA Regional Administrator, Region 4, Atlanta

8:40 Overview of Meeting Agenda & Objectives Status Review of Follow-up Action Items, Bryon Griffith, Gulf of Mexico Program Office

9 FY 2003 Program Accomplishments, Bryon Griffith, Gulf of Mexico Program Office

Purpose: Informational

9:30 Executive Order Status/Update, Bryon Griffith, Gulf of Mexico Program Office

Purpose: Informational

10 Break

10:45 Briefings on Emerging Initiatives

Purpose: To receive briefings and updates on issues and initiatives pertinent to the Gulf of Mexico.

PEW Commission Report—White House Views, Kameran Onley, Associate Director—CEQ

U.S. Ocean Commission Report (Governance Briefing), Dr. Frank Muller-Karger, Commissioner

12 Lunch

1 U.S. Mexico Gulf Programs Integration—Gulf of Mexico States Accord, Gary L. Springer, Executive Director—GOMSA

1:30 White Water to Blue Water Initiative, Patrick Cotter, EPA/Office of International Activities

2 Gulf Hypoxia—Implementation Plan Status Report, Larinda Tervelt, Gulf of Mexico Program Office

Industry-Led Solutions Workshop, Dr. Larry Beran, Texas Institute of Applied Environmental Research (TIAER)

2:30 FY 2004 Program Workplan Overview/PRB Endorsement and Proposed Addition of Choctawhatchee Basin as Priority Area, Bryon Griffith, Gulf of Mexico Program Office

2:45 Roundtable Discussion/Wrap-up and Next Steps

3 Adjourn

[FR Doc. 04-3453 Filed 2-17-04; 8:45 am]

BILLING CODE 6560-50-P